DEPARTMENT OF STATE

[Public Notice 3314]

Bureau of Educational and Cultural Affairs

PROGRAM TITLE: Great Lakes Reconciliation Project: Justice and Journalism.

NOTICE: Request for Proposals.

SUMMARY: The Near East/South Asia/Africa Division of the Office of Citizen Exchanges, Bureau of Educational and Cultural Affairs (ECA), announces an open competition to promote a justice and journalism program for the Great Lakes region of Africa. Public and private non-profit organizations meeting the provisions described in IRS regulation 26 CFR 1.501(c) may submit proposals to develop an exchange and training program for media and legal professionals from the Democratic Republic of the Congo (DRC), Rwanda, Burundi, Uganda and Zimbabwe. One grant award is anticipated for a maximum of $274,500.

PROGRAM INFORMATION: Overview: The Office of Citizen Exchanges works with U.S. non-profit organizations on cooperative international group projects that introduce American and foreign participants to each others' social, economic, and political structures, and international interests, as well as provide for professional development. In coordination with the Public Affairs Section of the U.S. Embassy, Kinshasa, the Office will support a coordinated set of public diplomacy activities to meet the goals of President Clinton's Great Lakes Justice Initiative and regional reconciliation objectives.

Great Lakes Justice Initiative (GLJI): GLJI supports efforts in the Democratic Republic of the Congo, Rwanda and Burundi to bring an end to the culture of impunity. GLJI goals include supporting effective, nondiscriminatory justice systems, assisting reconciliation processes, and promoting inter-group cooperation. U.S. policy concerning the conflict in the Democratic Republic of the Congo (DRC) focuses strongly on promoting a successful outcome of the Lusaka cease-fire agreement. The parties to the agreement have re-iterated their commitment to the peace process; however, regional reconciliation will be contingent in large part on the role of opinion leaders, particularly those in the media and civil society, in promoting peace. The role of the media is particularly important in countries whose governments and militaries are involved in the DRC conflict, but where domestic policy debate and public discourse may marginalize the issue. Media and legal professionals and NGOs can work together to strengthen support for the rule of law, as well as increase public information on justice issues that affect regional peace building efforts.

Justice and Journalism: The media, in Africa and elsewhere, often appear to operate from the premise that conflict is more newsworthy than compromise. Conflict typically gets more airtime and column-inches than positive cross-border interactions and efforts at problem solving. If solutions are to be found to the problems that confront the Great Lakes region, media and civil society opinion leaders should call for solutions which reduce polarization and inflammatory rhetoric and which are inclusive rather than exclusive.

Professionalism in the media—i.e., gaining an appreciation of and skill for objective reporting; developing subject specialization (e.g. justice/legal issues); giving fair coverage to positive as well as negative news; separating comment from news coverage; avoiding inflammatory presentations; maintaining independence from special interests; etc.—remains an area in which serious efforts must be expended if the fourth estate is to fulfill its potential as a pillar of democratic society. Concomitantly, attention must be given to laws, which constrain freedom of information, and to forces, which urge journalists, editors, producers and publishers to censor themselves, lest governments punish the media for having conveyed the message. Exchange programs can be designed to improve professionalism generally in the media and to strengthen specific efforts of individuals and organizations that report on issues of importance to regional development.

Guidelines: This Great Lakes Reconciliation Project should bring together, in a structured format, a minimum of 16 media and legal professionals from the DRC, Rwanda, Burundi, Uganda, and Zimbabwe who are concerned with conflict resolution and regional reconciliation and development. Project activities should explore how participants from these four countries with different perspectives and interests on conflict in the DRC can cooperate to decrease misunderstandings and hostility, increase meaningful communication among individuals and groups, and promote the rule of law and respect for human rights through the media. Programming emphasis should be on the development of the media, but legal practitioners may also be included to the extent that they can assist in improving the working environment for the media and in clarifying the terms of conflict for resolution and reconciliation.

Competitive proposals should include a multi-phase, integrated approach to program activities, which build sequentially from exploratory work to cooperative action plans. Suggested activities include:

1. A U.S.-based program that includes: orientation to program purposes and to U.S. society; study tour/site visits/mini-internships; interaction and dialogue; hands-on training in conflict resolution methods; professional development; and action plan development.

2. Capacity-building workshops in the DRC and one other country in the Great Lakes region to help participants to identify priorities, create work plans, strengthen conflict resolution skills, share their experience to committed people within each country, and become active in a practical and valuable way.

3. Seed grants/sub-grants to participants to support “Justice and Journalism” projects (e.g. radio programs, newspaper articles, televised town meetings, etc.) that address issues of local and regional reconciliation.

4. Site visits by U.S. facilitators/experts to monitor projects in the Great Lakes region and to provide additional training and consultations as needed.

The Office of Citizen Exchanges encourages applicants to be creative in planning project activities. Activities should include practical, hands-on, community-based initiatives, designed to achieve concrete objectives in the field. The proposal should not focus on theoretical/academic workshops, seminars or studies.

Applicants should identify any partner organizations and/or individuals in the United States or the Great Lakes region with whom they are proposing to collaborate and describe in detail previous cooperative programming and contacts. Specific information about the partners' activities and accomplishments is required and should be included in the section on “Institutional Capacity.”

Selection of Participants

Successful applications should include a description of an open, merit-based selection process, including advertising, recruitment and selection. A sample application should be submitted with the proposal. Applicants should expect to work closely with the U.S. Embassies abroad to carry out the selection process, but ECA and U.S. Embassies retain the right to nominate participants and to approve or reject participants recommended by the grantee institution. Priority should be given to foreign participants who have not traveled to the United States. ECA encourages applicants to design programs for non-English speakers, as appropriate.

Note: The grant award covers only assistance through non-governmental organizations. No direct assistance to the DRC or Burundi governments is permitted with funds available through this agreement. Potential applicants should therefore be advised that support cannot be provided for university professors, magistrates, government officials, and others who are on the government payrolls of the DRC or Burundi. Cooperation with U.S. Embassies in the selection of participants will be essential to this project.

Public Affairs Section (PAS) Involment

The Public Affairs Sections of the U.S. Embassies (formerly known as USIS posts) play a key role throughout every phase of project development. Posts evaluate project proposals; coordinate planning with the grantee organization and in-country partners; facilitate in-country activities; nominate participants and vet grantee nominations; observe in-country activities; debrief participants; and evaluate project impact. Posts are responsible for issuing IAP-66 forms in order for overseas participants to obtain necessary J-1 visas for entry to the United States. They also serve as a link to in-country partners and participants.

Project administration and implementation are the responsibility of grantee. The grantee must inform the PAS in participating countries of its operations and procedures and coordinate with and involve PAS officers in the development of project activities. The PAS should be consulted regarding country priorities, current security issues, and related logistical and programmatic issues.

Evalution

Short-and long-term evaluation is critical to the success of any professional development program. In accordance with the Government Performance and Results Act of 1993, Federal Agencies must create strategic plans, set performance goals, and develop methods for measuring how well the goals of this program are realized. The grantee would be required to work closely with the Bureau to fulfill this responsibility.

Applicants are asked to submit an evaluation plan that would address the Result Act's requirements and assess the long-term impact and effectiveness of this program. The evaluation plan should include a summation of goals and results desired, and an indication of what types of information would be used to determine if these goals were met or results achieved, as well as a description of how the applicant would gather and evaluate this information. Please include with the proposal any evaluation tools (survey/focus group questions) that would be used as part of the overall plan.

Visa Regulations

Foreign participants on programs sponsored by ECA are granted J-1 Exchange Visitor visas by the U.S. Embassy in the sending country. All programs must comply with J-1 visa regulations. Please refer to the Proposal Submission Instructions (PSI) for further information.

Budget Guidelines

Applicants must submit a comprehensive line item budget based on specific guidance provided in the Proposal Submission Instructions (PSI) of the Solicitation Package. A maximum grant award of $274,500 is available. Grants awarded to eligible organizations with less than four years of experience in conducting international exchange programs will be limited to $60,000.

While a comprehensive line item budget based on the model of the Solicitation Package must be submitted, separate component budgets are optional. The following program costs are eligible for funding consideration:

1. International and domestic airfares; visas (for entry to African countries); transit costs; ground transportation costs. (Note: There is no charge for J-1 visas for participants in ECA-sponsored programs.)

2. Per Diem. For both U.S.-based and Africa-based programming, organizations should be guided in budgeting by the published U.S. Federal per diem rates for individual cities. Applicants should budget realistic costs that reflect the local economy, but per diem costs must not exceed the published U.S. Federal rates. Per Diem rates may be accessed at http://www.policyworks.gov/.

3. Interpreters. If needed, interpreters for the U.S. program are available through the U.S. Department of State Language Services Division. Typically, a pair of simultaneous interpreters is provided for every four visitors who require interpreting. ECA grants do not pay for foreign interpreters to accompany delegations from their home country. When U.S. Department of State interpreters are to be employed, grant proposal budgets should contain a flat $160/day per diem for each U.S. Department of State interpreter, as well as home-program-home air transportation of $400 per interpreter plus any U.S. travel expenses during the program. Salary expenses are covered centrally and should not be part of an applicant's proposed budget. Locally-arranged interpreters with adequate skills and experience may be used by the grantee in lieu of State Department interpreters, with the same 1:4 interpreter: participant ratio. Costs associated with using their services may not exceed rates for U.S. Department of State interpreters.

4. Book and cultural allowance. Foreign participants are entitled to a one-time cultural allowance of $150 per person, plus a book allowance of $50. Interpreters should be reimbursed up to $150 for expenses when they escort participants to cultural events. U.S. program staff are not eligible to receive these benefits.

5. Consultants. Consultants may be used to provide specialized expertise or to make presentations. Honoraria should not exceed $250 per day. Subcontracting organizations may also be used, in which case the written agreement between the prospective grantee and subcontractor should be included in the proposal. Subcontracts should be itemized in the budget.

6. Room rental. Room rental may not exceed $250 per day.

7. Materials development. Proposals may contain costs to purchase, develop and translate materials for participants.

8. Equipment. Proposals may contain limited costs to purchase equipment crucial to the success of the program, such as computers, fax machines and copy machines. However, equipment costs must be kept to a minimum, and costs for furniture are not allowed.

9. Working meal. The grant budget may provide for only one working meal during the program. Per capita costs may not exceed $5-8 for a lunch and $14-20 for a dinner, excluding room rental. The number of invited guests may not exceed participants by more than a factor of two-to-one. Interpreters must be included as participants.

10. Return travel allowance. A return travel allowance of $70 for each foreign participant may be included in the budget. This may be used for incidental expenses incurred during international travel.

11. Health Insurance. Foreign participants will be covered under the terms of a U.S. Department of State-sponsored health insurance policy. The premium is paid by the U.S. Department of State directly to the insurance company. Applicants are permitted to include costs for travel insurance for U.S. participants in the budget.

12. Seed Grants/Sub-Grants: Applicants should allocate funding to eligible African NGOs/participants to support media-based reconciliation activities in their communities.

13. Administrative Costs. Costs necessary for the effective administration of the program may include salaries for grant organization employees, benefits, and other direct and indirect costs per detailed instructions in the Application Package. While this announcement does not prescribe a rigid ratio of administrative to program costs, priority will be given to proposals whose administrative costs are less than twenty-five (25) per cent of the total requested from ECA.

14. Cost Sharing: Proposals should show cost-sharing contributions from the applicant, U.S. and African partners and other sources. While no rigid percentage for cost sharing is stipulated in this RFP, ECA sees cost sharing as an important way to demonstrate program commitment and to increase impact, and it will be a criterion for evaluating grant proposals.

Please note that all air travel must be in compliance with the Fly America Act.

Please refer to the Proposal Submission Instructions (PSI) for complete budget guidelines and formatting instructions.

Announcement Title and Number

All correspondence with the Bureau concerning this RFP should reference the above title and number ECA/PE/C-00-62.

FOR FURTHER INFORMATION, CONTACT: The Office of Citizen Exchanges, ECA/PE/C, Room 220, U.S. Department of State, 301 4th Street, S.W., Washington, D.C. 20547, attention: Orna Blum, telephone: (202) 260-2754 and fax number: (202) 619-4350, Internet address: oblum@pd.state.gov, to request a Solicitation Package. The Solicitation Package contains detailed award criteria, required application forms, specific budget instructions, and standard guidelines for proposal preparation. Please specify Bureau Program Officer Orna Blum on all other programmatic inquiries and correspondence.

Please read the complete Federal Register announcement before sending inquiries or submitting proposals. Once the RFP deadline has passed, Bureau staff may not discuss this competition with applicants until the proposal review process has been completed.

To Download a Solicitation Package VIA Internet

The entire Solicitation Package may be downloaded from the Bureau's website at http: //e.usia.gov/education/rfps or http: //exchanges.state.gov/education/rfps. Please read all information before downloading.

Deadline for Proposals: All proposal copies must be received at the Bureau of Educational and Cultural Affairs by 5 p.m. Washington, D.C. time on Friday, June 16, 2000. Faxed documents will not be accepted at any time. Documents postmarked the due date but received on a later date will not be accepted. Each applicant must ensure that the proposals are received by the above deadline.

Applicants must follow all instructions in the Solicitation Package. The original and 10 copies of the application should be sent to: U.S. Department of State SA-44, Bureau of Educational and Cultural Affairs, Ref.: ECA/PE/C-00-62, Program Management, ECA/EX/PM, Room 336, 301 4th Street, S.W., Washington, D.C. 20547.

Applicants must also submit the “Executive Summary” and “Proposal Narrative” sections of the proposal on a 3.5” diskette, formatted for DOS. These documents must be provided in ASCII text (DOS) format with a maximum line length of 65 characters. The Bureau will transmit these files electronically to the Public Affairs section at the US Embassy for its review, with the goal of reducing the time it takes to get embassy comments for the Bureau's grants review process.

Diversity, Freedom and Democracy Guidelines

Pursuant to the Bureau's authorizing legislation, programs must maintain a non-political character and should be balanced and representative of the diversity of American political, social, and cultural life. “Diversity” should be interpreted in the broadest sense and encompass differences including, but not limited to ethnicity, race, gender, religion, geographic location, socio-economic status, and physical challenges. Applicants are strongly encouraged to adhere to the advancement of this principle both in program administration and in program content. Please refer to the review criteria under the “Support for Diversity” section for specific suggestions on incorporating diversity into the total proposal. Public Law 104-319 provides that “in carrying out programs of educational and cultural exchange in countries whose people do not fully enjoy freedom and democracy,” the Bureau “shall take appropriate steps to provide opportunities for participation in such programs to human rights and democracy leaders of such countries.” Proposals should reflect advancement of this goal in their program contents, to the full extent deemed feasible.

Year 2000 Compliance Requirement (Y2K Requirement)

The Year 2000 (Y2K) issue is a broad operational and accounting problem that could potentially prohibit organizations from processing information in accordance with Federal management and program specific requirements including data exchange with the Bureau. The inability to process information in accordance with Federal requirements could result in grantees' being required to return funds that have not been accounted for properly.

The Bureau therefore requires all organizations use Y2K compliant systems including hardware, software, and firmware. Systems must accurately process data and dates (calculating, comparing and sequencing) both before and after the beginning of the year 2000 and correctly adjust for leap years.

Additional information addressing the Y2K issue may be found at the General Services Administration's Office of Information Technology website at http://www.itpolicy.gsa.gov.

Review Process

The Bureau will acknowledge receipt of all proposals and will review them for technical eligibility. Proposals will be deemed ineligible if they do not fully adhere to the guidelines stated herein and in the Solicitation Package. All eligible proposals will be reviewed by the program office, as well as the Public Diplomacy section overseas, where appropriate. Eligible proposals will be forwarded to panels of Bureau officers for advisory review. Proposals may also be reviewed by the Office of the Legal Adviser or by other Department elements. Final funding decisions are at the discretion of the Department of State's Under Secretary for Public Diplomacy and Public Affairs. Final technical authority for assistance awards (grants or cooperative agreements) resides with the Bureau's Grants Officer.

Review Criteria

Technically eligible applications will be competitively reviewed according to the criteria stated below. These criteria are not rank ordered, and all are important in the proposal evaluation:

1. Program Planning and Ability to Achieve Objectives: Program objectives should be stated clearly and precisely and should reflect the applicant's expertise in the subject area and the region. Objectives should respond to the priority topics in this announcement and should relate to the current conditions in the Great Lakes region. Objectives should be reasonable and attainable. A detailed work plan should explain step-by-step how objectives would be achieved and should include a timetable for completion of major tasks. The substance of workshops, presentations, consultations, site visits and seed grant projects should be included as attachments. Responsibilities of U.S. participants and in-country partners should be clearly described.

2. Institutional Capacity: The proposal should include: (1) The U.S. institution's mission and date of establishment; (2) detailed information about the capacity of any partner institutions, and the history of the partnership(s); (3) an outline of prior awards—U.S. government and private support received for the target theme/region; and (4) descriptions of experienced staff members and other resource persons who would implement the program. Proposed personnel and institutional resources should be adequate and appropriate to achieve the program's goals. The narrative should demonstrate proven ability to handle logistics. The proposal should reflect the institution's expertise in the subject area and knowledge of the conditions in the target country/region(s).

3. Cost Effectiveness and Cost Sharing: Overhead and administrative costs for the proposal, including salaries, honoraria and subcontracts for services, should be kept to a minimum. Applicants are encouraged to cost share a portion of overhead and administrative expenses. Cost sharing, including contributions from the applicant, U.S. or African partners, and other sources, should be included in the budget.

4. Program Evaluation: The proposal must include a plan and methodology to evaluate the program's successes, both as activities unfold and at the program's conclusion. ECA recommends that the proposal include a draft survey questionnaire or other technique (such as a series of questions for a focus group) to link outcomes to original program objectives.

5. Multiplier Effect/Impact: The proposal should show how the program would strengthen long-term mutual understanding and institutionalization of program objectives. Applicants should describe how responsibility and ownership of the program would be transferred to the African participants to ensure continued activity and impact. ECA places a priority on programs that include convincing plans for sustainability.

6. Follow-on Activities: The proposal should provide a plan for continued follow-on activity (beyond the ECA grant period), ensuring that ECA-supported programs are not isolated events. Follow-on activities sponsored by the applicant should be clearly outlined.

7. Support of Diversity: The proposed project should demonstrate substantive support of the Bureau's policy on diversity. Program content (training sessions, resource materials, follow-on activities) and program administration (participant selection process, orientation, evaluation, resource/staff persons) should address diversity in a comprehensive and innovative manner. Applicants should refer to ECA's Diversity, Freedom and Democracy Guidelines on page four of the Proposal Submission Instructions (PSI).

8. Value to U.S.-Partner Country Relations: The proposed project should receive positive assessments by the Bureau's geographic area desk and overseas officers of program need, potential impact, and significance in the partner country. The project should meet the priorities of the Great Lakes Justice Initiative (GLJI), as outlined above.

Authority

Overall grant making authority for this program is contained in the Mutual Educational and Cultural Exchange Act of 1961, Public Law 87-256, as amended, also known as the Fulbright-Hays Act. The purpose of the Act is “to enable the Government of the United States to increase mutual understanding between the people of the United States and the people of other countries * * *; to strengthen the ties which unite us with other nations by demonstrating the educational and cultural interests, developments, and achievements of the people of the United States and other nations * * * and thus to assist in the development of friendly, sympathetic and peaceful relations between the United States and the other countries of the world.” The funding authority for the program above is provided through Economic Support Funds under the Great Lakes Justice Initiative. Use of these funds in the conflict resolution, reconciliation, and democratic initiatives process will support USG efforts to uphold and further the Lusaka Accords.

Notice

The terms and conditions published in this RFP are binding and may not be modified by any Bureau representative. Explanatory information provided by the Bureau that contradicts published language will not be binding.

Issuance of the RFP does not constitute an award commitment on the part of the Government. An award for this project is subject to the availability of funds anticipated through an inter-agency transfer. The Bureau reserves the right to cancel the competition in the event the transfer does not take place in a timely manner. The Bureau reserves the right to reduce, revise, or increase proposal budgets in accordance with the needs of the program and the availability of funds. Awards made will be subject to periodic reporting and evaluation requirements.

Notification

Final awards cannot be made until funds have been appropriated by Congress, allocated and committed through internal Bureau procedures.

Dated: May 8, 2000.
Evelyn S. Lieberman,
Under Secretary for Public Diplomacy And Public Affairs, Department of State

[FR Doc. 00-12138 Filed 5-12-00; 8:45 am]

BILLING CODE 4710-11-P